DEPARTMENT OF COMMERCE

National Oceanic and Atmospheric Administration

[RTID 0648-XE249]

Gulf of Mexico Fishery Management Council; Public Meeting

AGENCY: National Marine Fisheries Service (NMFS), National Oceanic and Atmospheric Administration (NOAA), Commerce.

ACTION: Notice of meeting.

SUMMARY: The Gulf of Mexico Fishery Management Council will hold a series of three Coastal Migratory Pelagics (CMP) Special Engagement Session webinars on September 25, October 28 and November 19, 2024. See below for scheduled times.

DATES: These webinars will convene on Wednesday, September 25, 2024 at 10 a.m., EDT; Monday, October 28, 2024 at 1 p.m., EDT; and Tuesday, November 19, 2024, at 6 p.m., EST.

ADDRESSES: The sessions will all be held virtually, by webinar only.

Council address: Gulf of Mexico Fishery Management Council, 4107 W Spruce Street, Suite 200, Tampa, FL 33607; telephone: (813) 348-1630.

FOR FURTHER INFORMATION CONTACT: Emily Muehlstein, Public Information Officer, Gulf of Mexico Fishery Management Council; Emily.muehlstein@gulfcouncil.org, telephone: (813) 348-1630.

SUPPLEMENTARY INFORMATION: The agenda for the three webinar meetings is as follows:

• Wednesday, September 25, 2024, at 10 a.m. EDT

• Monday, October 28, 2024, at 1 p.m. EDT

• Tuesday, November 19, 2024, at 6 p.m. EST

Council staff will begin with a brief presentation on the purpose of the Special Engagement Sessions, provide a brief overview of information on Cobia, Spanish Mackerel, and King Mackerel, and outline the meeting format and expected outcomes. Staff will ask a series of open-ended questions about Coastal Migratory Pelagic fisheries and fishing and allow for open public comment as time permits. Visit https://www.gulfcouncil.org website and click on the “meetings” tab for registration information. After registering, you will receive a confirmation email containing information about joining the webinar. Public feedback on coastal migratory pelagics will also be gathered online through an online feedback tool located at https://docs.google.com/forms/d/e/1FAIpQLSf_SBrikl8NAf4gdGZcHQf-v6uOx6FOem6yuXzbmMcwvZcOSg/viewform?usp=sf_link.

—Meeting Adjourns

The Agenda is subject to change, and the latest version along with other meeting materials will be posted on https://www.gulfcouncil.org.

Although other non-emergency issues not on the agenda may come before this group for discussion, in accordance with the Magnuson-Stevens Fishery Conservation and Management Act, those issues may not be the subject of formal action during these meetings. Actions will be restricted to those issues specifically identified in the agenda and any issues arising after publication of this notice that require emergency action under Section 305(c) of the Magnuson-Stevens Fishery Conservation and Management Act, provided the public has been notified of the Council's intent to take-action to address the emergency.

Authority: 16 U.S.C. 1801 et seq.

Dated: August 29, 2024.
Alyssa Weigers,
Acting Deputy Director, Office of Sustainable Fisheries, National Marine Fisheries Service.

[FR Doc. 2024-19812 Filed 9-3-24; 8:45 am]

BILLING CODE 3510-22-P